DEPARTMENT OF ENERGY

Federal Energy Regulatory Commission

[Docket No. EC05-43-000, et al.]

Exelon Corporation, et al.; Electric Rate and Corporate Filings

May 13, 2005.

The following filings have been made with the Commission. The filings are listed in ascending order within each docket classification.

1. Exelon Corporation, Public Service Enterprise Group Incorporated

[Docket No. EC05-43-000]

Take notice that on May 10, 2005, Exelon Corporation and its subsidiaries that are PUBLIC utilities subject to the Commission's jurisdiction (collectively, Exelon) and Public Service Enterprise Group Incorporated and its subsidiaries that are public utilities subject to the Commission's jurisdiction (collectively, PSEG) submitted an answer to various motions to intervene, protests and requests for hearing which provides certain additions to their proposal filed on February 4, 2005 as supplemented on February 9, 2005.

Comment Date: 5 p.m. Eastern Time on May 27, 2005.

2. Bonneville Power Administration, PacifiCorp, Idaho Power Company

[Docket No. EL05-106-000]

Take notice that on April 29, 2005, Bonneville Power Administration (Bonneville), PacifiCorp, and Idaho Power Company, pursuant to Rule 207(a)(2) of the Commission's Rules of Practice and Procedures, 18 CFR 385.207(a)(2), filed a petition for a declaratory order on a conceptual proposal in reference to certain issues of importance to the further development of Grid West.

Comment Date: 5 p.m. Eastern Time on May 27, 2005.

3. Coral Power, L.L.C.; Coral Energy Management, LLC

[Docket Nos. ER96-25-027, ER01-1363-005]

Take notice that on May 4, 2005, Coral Power, L.L.C. (Coral Power) and Coral Energy Management, LLC (Coral EM) (together, Coral Entities) submitted a notice of change in status describing a change in the upstream ownership of the Coral Entities. In addition, Coral Power and Coral EM each submitted a revised market-based rate tariff sheet which incorporates the Commission's change in status reporting requirement set forth in Order No. 652. Coral Power and Coral EM requests an effective date of March 21, 2005.

Coral Power and Coral EM state that copies of the filing were served upon all persons listed on the official service lists compiled by the Secretary in the above-captioned dockets.

Comment Date: 5 p.m. Eastern Time on May 25, 2005.

4. Montana-Dakota Utilities Co.

[Docket No. ER98-4289-004]

Take notice that on May 9, 2005, Montana-Dakota Utilities Co. (Montana-Dakota) submitted for filing an amendment to its updated market power analysis filed on October 18, 2004 in Docket No. ER98-4289-003.

Comment Date: 5 p.m. Eastern Time on May 31, 2005.

5. Puget Sound Energy, Inc.

[Docket No. ER99-845-009]

Take notice that on May 4, 2005, Puget Sound Energy, Inc. (Puget) submitted a compliance filing pursuant to the Commission's order issued April 13, 2005 in Docket No. ER99-845-003, et al., 111 FERC ¶ 61,020 (2005).

Comment Date: 5 p.m. Eastern Time on May 25, 2005.

6. Indigo Generation, LLC; Larkspur Energy LLC; Wildflower Energy LP

[Docket No. ER01-1822-004]

Take notice that on May 5, 2005, Indigo Generation LLC, Larkspur Energy LLC and Wildflower Energy LP submitted a compliance filing pursuant to the Commission's order issued April 5, 2005 in Docket No. ER01-1822-003.

Comment Date: 5 p.m. Eastern Time on May 26, 2005.

7. PPL University Park, LLC

[Docket No. ER02-1327-003]

Take notice that on May 9, 2005, PPL University Park, LLC (PPL University Park) submitted an updated market power analysis and updated tariff sheets to incorporate the change in status reporting requirement adopted by the Commission in Order No. 652, Reporting Requirement for Changes in Status for Public Utilities With Market-Based Rate Authority, 70 FR 8253 (Feb. 18, 2005), FERC Stats. & Regs., Regulations Preambles ¶ 31,175 (2005).

PPL University Park states that copies of the filing were served on parties on the official service list in the above-captioned proceeding.

Comment Date: 5 p.m. Eastern Time on May 31, 2005.

8. Mirant Oregon, LLC

[Docket No. ER02-1331-007]

Take notice that on May 5, 2005, Mirant Oregon, LLC submitted a compliance filing pursuant to the Commission's letter order issued April 5, 2005 in Docket Nos. ER99-1435-007 and ER02-1331-005.

Comment Date: 5 p.m. Eastern Time on May 26, 2005.

9. Chehalis Power Generating Limited Partnership

[Docket No. ER03-717-002]

Take notice that on May 5, 2005, Chehalis Power Generating Limited Partnership (Chehalis) filed a notification of change in status.

Comment Date: 5 p.m. Eastern Time on May 26, 2005.

10. Pacific Gas and Electric Company

[Docket No. ER04-242-002]

Take notice that on May 5, 2005, Pacific Gas and Electric Company submitted a compliance filing pursuant to the Commission's order issued April 27, 2005 in Docket No. ER04-115-002, et al., 111 FERC ¶ 61,125 (2005).

Pacific Gas and Electric Company states that copies of the filing were served on parties on the official service list in the above-captioned proceeding.

Comment Date: 5 p.m. Eastern Time on May 26, 2005.

11. California Independent System Operator Corporation

[Docket No. ER05-224-002]

Take notice that on May 9, 2005, the California Independent System Operator Corporation (ISO) submitted a compliance filing pursuant to the Commission's April 8, 2005 order in Docket Nos. ER05-224-000 and 001, 111 FERC ¶ 61,015. The ISO states that the filing also contains clean-up changes to ISO Tariff sheets.

The ISO states that it has served copies of this filing upon the California Public Utilities Commission, the California Energy Commission, the California Electricity Oversight Board, all parties with effective Scheduling Coordinator Service Agreements under the ISO Tariff, and all parties on the official service list for the captioned docket. In addition, the ISO is posting this filing on the ISO Home Page.

Comment Date: 5 p.m. Eastern Time on May 31, 2005.

12. Hot Spring Power Company, LP

[Docket No. ER05-570-003]

Take notice that on May 5, 2005, Hot Spring Power Company, LP (Hot Spring) filed a notification of change in status.

Comment Date: 5 p.m. Eastern Time on May 26, 2005.

13. American Electric Power Service Corporation

[Docket No. ER05-758-001]

Take notice that on May 6, 2005, American Electric Power Service Corporation (AEPSC) on behalf of the AEP operating companies in its East Zone, (namely Appalachian Power Company, Columbus Southern Power Company, Indiana Michigan Power Company, Kentucky Power Company, Kingsport Power Company, Ohio Power Company, and Wheeling Power Company) submitted an amendment to its March 30, 2005 filing in Docket No. ER05-758-000 regarding an Interconnection and Local Delivery Service Agreement between AEP and Hooiser Energy Rural Electric Cooperative, Inc.

AEPSC states that copies of the filing were served on all parties on the official service list in the above-captioned proceeding.

Comment Date: 5 p.m. Eastern Time on May 31, 2005.

14. American Electric Power Service Corporation

[Docket No. ER05-824-001]

Take notice that on May 6, 2005, American Electric Power Service Corporation (AEPSC) on behalf of the AEP operating companies in its East Zone, (namely Appalachian Power Company, Columbus Southern Power Company, Indiana Michigan Power Company, Kentucky Power Company, Kingsport Power Company, Ohio Power Company, and Wheeling Power Company) submitted an amendment to its April 13, 2005 filing in Docket No. ER05-824-000.

AEPSC states that copies of the filing were served on all parties on the official service list in the above-captioned proceedings.

Comment Date: 5 p.m. Eastern Time on May 31, 2005.

15. Midwest Independent Transmission System Operator, Inc.

[Docket No. ER05-944-000]

Take notice that on May 9, 2005, the Midwest Independent Transmission System Operator, Inc. (Midwest ISO) submitted revisions to the Midwest ISO's Open Access Transmission and Energy Markets Tariff, Attachment L (Credit Policy). The Midwest ISO requested an effective date of July 8, 2005.

The Midwest ISO states that it has electronically served a copy of this filing on all Midwest ISO Members, Member representatives of Transmission Owners and Non-Transmission Owners, the Midwest ISO Advisory Committee participants, and all state commissions within the region. In addition, the Midwest ISO states that the filing has been electronically posted on the Midwest ISO's Web site at http://www.midwestiso.org under the heading “Filings to FERC” for other interested parties in this matter.

Comment Date: 5 p.m. Eastern Time on May 31, 2005.

16. ISO New England Inc. and New England Power Pool Participants Committee

[Docket No. ER05-945-000]

Take notice that on May 9, 2005, ISO New England Inc. (the ISO) and the New England Power Pool (NEPOOL) Participants Committee submitted a one-year modification of the rating requirement for the insurance company providing credit insurance under the ISO Financial Assurance Policy for Market Participants, which constitutes section IA of the ISO's Transmission, Markets and Services Tariff, FERC Electric Tariff No. 3.

The ISO and NEPOOL state that paper copies of said filing were sent to the New England state governors and regulatory agencies, and electronic copies were sent to all NEPOOL Participants, which constitute the ISO's Governance Participants.

Comment Date: 5 p.m. Eastern Time on May 31, 2005.

17. Golden Spread Electric Cooperative, Inc.

[Docket No. ER05-946-000]

Take notice that on May 9, 2005, Golden Spread Electric Cooperative, Inc. (Golden Spread) tendered for filing with the Commission a Fifth Informational Filing to Golden Spread Rate Schedule No. 35. Golden Spread states that the Fifth Informational Filing updates the formulary fixed costs associated with replacement energy sales by Golden Spread to Southwestern Public Service Company (Southwestern).

Golden Spread states that a copy of this filing has been served upon Southwestern.

Comment Date: 5 p.m. Eastern Time on May 31, 2005.

18. Southern California Edison Company

[Docket No. ER05-947-000]

Take notice that on May 9, 2005, Southern California Edison Company (SCE) submitted the Bear Valley Project Distribution System Facilities Agreement (Facilities Agreement) between SCE and the Southern California Water Company (SCWC). SCE states that the Facilities Agreement specifies the terms and conditions pursuant to which SCE will engineer, design, construct, install, own, operate, and maintain, and SCWC will pay for, the Distribution System Facilities as described in Exhibit A to the Facilities Agreement such that the Bear Valley Project can operate in parallel with SCE's electric system on a permanent basis.

SCE states that copies of the filing were served upon the Public Utilities Commission of the State of California and SCWC.

Comment Date: 5 p.m. Eastern Time on May 31, 2005.

19. StratErgy, Inc.

[Docket No. ER05-948-00]

Take notice that on May 6, 2005, StratErgy, Inc. (StratErgy) filed a notice of cancellation of its market-based rate electric tariff, Rate Schedule FERC No. 1. StratErgy has requested an effective date of May 6, 2005.

StratErgy states that copies of the filing were not served upon any party, because such cancellation affects no purchasers under StratErgy's Rate Schedule FERC No. 1.

Comment Date: 5 p.m. Eastern Time on May 31, 2005.

20. Midwest Independent Transmission System Operator, Inc.

[Docket No. ER05-949-000]

Take notice that on May 9, 2005, the Midwest Independent Transmission System Operator, Inc. (Midwest ISO) submitted a Large Generator Interconnection Agreement among the Power Partners Midwest, LLC, the Midwest ISO and Northern Indiana Public Service Company. Midwest ISO requests an effective date of April 18, 2005.

Midwest ISO states that a copy of this filing was served on Power Partners Midwest, LLC and Northern Indiana Public Service Company.

Comment Date: 5 p.m. Eastern Time on May 31, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2566 Filed 5-19-05; 8:45 am]

BILLING CODE 6717-01-P